DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Standards and Security.

Time and Date: 9 a.m. to 5 p.m., October 9, 2001; 9 a.m. to 12:30 p.m., October 10, 2001.

Place: Hubert H. Humphrey Building, Room 705A, 200 Independence Avenue S.W., Washington, DC.

Status: Open.

Purpose: The Subcommittee is evaluating Patient Medical Record Information (PMRI) message format standards from ASTM, DICOM, HL7, IEEE, NCPDP Script, and Object Management Group. The Subcommittee will be receiving testimony from vendors, consultants and users of these standards with a possible outcome being the formulation of recommendations to the HHS Secretary about their use as HIPAA standards.

Notice: In the interest of security, HHS has instituted stringent procedures for entrance to the Hubert H. Humphrey building by non-government employees. Persons without a government identification card may need to have the guard call for an escort to the meeting.

Contact Person for more Information: Substantive program information as well as summaries of meetings and a roster of committee members may be obtained from J. Michael Fitzmaurice, Ph.D., Senior Science Advisor for Information Technology, Agency for Health Care Research and Quality, 2101 East Jefferson Street, #600, Rockville, MD 20852, phone: (301) 594-3938; or Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/ where an agenda for the meeting will be posted when available.

Dated: September 21, 2001.
James Scanlon,
Director, Division of Data Policy, Office of the Assistant Secretary for Planning and Evaluation.

[FR Doc. 01-24584 Filed 10-1-01; 8:45 am]

BILLING CODE 4151-05-M